MILLENNIUM CHALLENGE CORPORATION

[MCC FR 11-06]

Notice of the June 22, 2011 Millennium Challenge Corporation Board of Directors Meeting; Sunshine Act Meeting

AGENCY: Millennium Challenge Corporation.

TIME AND DATE: 10 a.m. to 12 p.m., Wednesday, June 22, 2011.

PLACE: Department of State, 2201 C Street, NW., Washington, DC 20520.

FOR FURTHER INFORMATION CONTACT: Information on the meeting may be obtained from Melvin F. Williams, Jr., Vice President, General Counsel and Corporate Secretary via e-mail at Corporatesecretary@mcc.gov or by telephone at (202) 521-3600.

STATUS: Meeting will be closed to the public.

MATTERS TO BE CONSIDERED: The Board of Directors (the “Board”) of the Millennium Challenge Corporation (“MCC”) will hold a meeting to discuss compact operations highlights, policy reform and reinstatement of Niger Threshold Program. The agenda items are expected to involve the consideration of classified information and the meeting will be closed to the public.

Dated: June 9, 2011.
Melvin F. Williams,
VP/General Counsel and Corporate Secretary, Millennium Challenge Corporation.

[FR Doc. 2011-14647 Filed 6-9-11; 11:15 am]

BILLING CODE 9111-03-P